SECURITIES AND EXCHANGE COMMISSION

[Release No. 34-65539; File No. SR-FICC-2011-07]

Self-Regulatory Organizations; The Fixed Income Clearing Corporation; Notice of Filing and Immediate Effectiveness of Proposed Rule Change To Make Technical Corrections to the Schedule of Timeframes, GCF Schedule of Timeframes, and Fee Structure in the GSD Rules

October 12, 2011.

Pursuant to Section 19(b)(1) of the Securities Exchange Act of 1934 (“Act”),¹ notice is hereby given that on September 30, 2011, the Fixed Income Clearing Corporation (“FICC”) filed with the Securities and Exchange Commission (“Commission”) the proposed rule change described in Items I and II below, which Items have been prepared primarily by FICC. FICC filed the proposal pursuant to Section 19(b)(3)(A)(ii) of the Act,² and Rule 19b-4(f)(2) ³ and Rule 19b-4(f)(4) ⁴ thereunder so that the proposal was effective upon filing with the Commission. The Commission is publishing this notice to solicit comments on the rule change from interested parties.

¹ 15 U.S.C. 78s(b)(1).

² 15 U.S.C. 78s(b)(3)(A)(ii).

³ 17 CFR 240.19b-4(f)(2).

⁴ 17 CFR 240.19b-4(f)(4).

I. Self-Regulatory Organization's Statement of the Terms of Substance of the Proposed Rule Change

The proposed rule change will make technical corrections to the Schedule of Timeframes, GCF Schedule of Timeframes, and Fee Structure in the GSD Rules.

II. Self-Regulatory Organization's Statement of the Purpose of, and Statutory Basis for, the Proposed Rule Change

In its filing with the Commission, FICC included statements concerning the purpose of and basis for the proposed rule change and discussed any comments it received on the proposed rule change. The text of these statements may be examined at the places specified in Item IV below. FICC has prepared summaries, set forth in sections (A), (B), and (C) below, of the most significant aspects of these statements.⁵

⁵ The Commission has modified the text of the summaries prepared by FICC.

(A) Self-Regulatory Organization's Statement of the Purpose of, and Statutory Basis for, the Proposed Rule Change

The purpose of this filing is to make technical corrections to the Schedule of Timeframes, the GCF Schedule of Timeframes, and the Fee Structure as described below.

1. Schedule of Timeframes

The GSD Schedule of Timeframes is being updated to incorporate timeframes relating to the intraday collection of funds-only settlement and Clearing Fund amounts that were approved in connection with the SR-FICC-2010-09 rule filing.⁶ The Schedule of Timeframes is also being revised to make certain other technical changes.

⁶ Securities Exchange Act Release No. 34-63986 (February 28, 2011), 76 FR 12144 (March 4, 2011).

2. Schedule of GCF Timeframes

The Schedule of GCF Timeframes is being corrected to reflect that GCF Repo® trading is available to GCF brokers at 7 a.m.

3. Fee Structure Corrections

The following corrections are made to reflect fees that members are currently being charged:

Subsection A “Trade Submission” under “Trade Comparison Fees” currently describes trade submissions as including a submission of a side of a trade and a submission of a Repo Transaction. This is being corrected to make clear that Trade Submissions also include demand and bilateral submissions.

Subsection D “Modifications and Cancellations” under “Trade Comparison Fees” currently states that the charge to a Member for the entry of a request to modify or cancel a side of a GCF Repo Transaction is 5 cents per such request. This is being corrected to state that the charge is 5 cents per 50 million of par value.

The fee provided under Subsection E “Demand and Locked-In Trade Data” under “Trade Comparison Fees” currently states that fees for data received on a demand or locked-in basis related to a side of a trade or a Repo Transaction is 16 cents per 50 million increment. This is being corrected to state that this fee only applies to a Locked-In Trade Source related to a side of a trade, to clarify that the 50 million is of par value, and to delete the dollar sign ($) reference to par value.

Under “Netting Fee and Charges,” with respect to the “Netting Fee” (1) the references to “par value” incorrectly include a dollar sign ($); and (2) the Fail Deliver Obligation and Fail Receive Obligation currently states that the fee equals the sum of (i) $0.16 and (ii) $0.012 per $1 million of par value. This is being corrected to state that the fee equals the sum of (i) $0.18 and $0.018 per 1 million of par value. Under “Auction Takedown Process” of this same section, the fee in connection with locked in trades is clarified to state that the fee is $.50 per 50 million of par value increment.

FICC believes that the proposed rule change is consistent with the requirements of Section 17A of the Act ⁷ and the rules and regulations thereunder applicable to FICC because it facilitates the prompt and accurate clearance and settlement of securities by ensuring that FICC rules are consistent and accurate.

⁷ 15 U.S.C. 78q-1.

(B) Self-Regulatory Organization's Statement on Burden on Competition

FICC does not believe that the proposed rule change will have any impact or impose any burden on competition.

(C) Self-Regulatory Organization's Statement on Comments on the Proposed Rule Change Received From Members, Participants, or Others

Written comments relating to the proposed rule change have not been solicited or received. FICC will notify the Commission of any written comments received by FICC.

III. Date of Effectiveness of the Proposed Rule Change and Timing for Commission Action

The foregoing proposed rule change has become effective upon filing pursuant to Section 19(b)(3)(A)(ii) of the Act,⁸ and Rule 19b-4(f)(2) ⁹ and Rule 19b-4(f)(4) ¹⁰ thereunder. At any time within 60 days of the filing of the proposed rule change, the Commission summarily may temporarily suspend such rule change if it appears to the Commission that such action is necessary or appropriate in the public interest, for the protection of investors, or otherwise in furtherance of the purposes of the Act.

⁸ 15 U.S.C. 78s(b)(3)(A)(ii).

⁹ 17 CFR 240.19b-4(f)(2).

¹⁰ 17 CFR 240.19b-4(f)(4).

IV. Solicitation of Comments

Interested persons are invited to submit written data, views, and arguments concerning the foregoing, including whether the proposed rule change is consistent with the Act. Comments may be submitted by any of the following methods:

Electronic Comments

• Use the Commission's Internet comment form (http://www.sec.gov/rules/sro.shtml); or

• Send an email to rule-comments@sec.gov. Please include File Number SR-FICC-2011-07 on the subject line.

Paper Comments

• Send paper comments in triplicate to Elizabeth M. Murphy, Secretary, Securities and Exchange Commission, 100 F Street, NE., Washington, DC 20549-1090.

All submissions should refer to File Number SR-FICC-2011-07. This file number should be included on the subject line if email is used. To help the Commission process and review your comments more efficiently, please use only one method. The Commission will post all comments on the Commission's Internet Web site (http://www.sec.gov/rules/sro.shtml). Copies of the submission, all subsequent amendments, all written statements with respect to the proposed rule change that are filed with the Commission, and all written communications relating to the proposed rule change between the Commission and any person, other than those that may be withheld from the public in accordance with the provisions of 5 U.S.C. 552, will be available for website viewing and printing in the Commission's Public Reference Room, 100 F Street, NE., Washington, DC 20549, on official business days between the hours of 10 a.m. and 3 p.m. Copies of such filings also will be available for inspection and copying at the principal office of FICC and on FICC's Web site at http://www.dtcc.com/downloads/legal/rule_filings/2011/ficc/2011-07-v2.pdf. All comments received will be posted without change; the Commission does not edit personal identifying information from submissions. You should submit only information that you wish to make available publicly. All submissions should refer to File Number SR-FICC-2011-07 and should be submitted on or before November 8, 2011.

For the Commission by the Division of Trading and Markets, pursuant to delegated authority.¹¹
¹¹ 17 CFR 200.30-3(a)(12).
Elizabeth M. Murphy,
Secretary.

[FR Doc. 2011-26888 Filed 10-17-11; 8:45 am]

BILLING CODE 8011-01-P